INTERNATIONAL TRADE COMMISSION

[Investigation Nos. 701-TA-456 and 731-TA-1151-1152 (Review)]

Citric Acid and Certain Citrate Salts From Canada and China

Determination

On the basis of the record ¹ developed in the subject five-year reviews, the United States International Trade Commission (“Commission”) determines, pursuant to the Tariff Act of 1930, that revocation of the countervailing duty order on citric acid and certain citrate salts from China and the antidumping duty orders on citric acid and certain citrate salts from China and Canada would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on April 1, 2014 (79 FR 18311) and determined on July 7, 2014 that it would conduct full reviews (79 FR 42049, July 18, 2014). Notice of the scheduling of the Commission's reviews and of a public hearing to be held in connection therewith was given by posting copies of the notice in the Office of the Secretary, U.S. International Trade Commission, Washington, DC, and by publishing the notice in the Federal Register on November 14, 2014 (79 FR 68299). The hearing was held in Washington, DC, on March 26, 2015, and all persons who requested the opportunity were permitted to appear in person or by counsel.

The Commission made these determinations pursuant to section 751(c) of the Tariff Act of 1930 (19 U.S.C. 1675(c)). It completed and filed its determinations in these reviews on June 11, 2015. The views of the Commission are contained in USITC Publication 4538 (June 2015), entitled Citric Acid and Certain Citrate Salts from Canada and China: Investigation Nos. 701-TA-456 and 731-TA-1151-1152 (Review).

By order of the Commission.
Issued: June 12, 2015.
Lisa R. Barton,
Secretary to the Commission.

[FR Doc. 2015-14863 Filed 6-16-15; 8:45 am]

BILLING CODE 7020-02-P